ENVIRONMENTAL PROTECTION AGENCY

[EPA-HQ-OAR-2024-0446; FRL-12398-01-OAR]

Notice of Pending Approval for Other Use of Phosphogypsum; Extension of Public Comment Period

AGENCY: Environmental Protection Agency (EPA).

ACTION: Notice of availability.

SUMMARY: The Environmental Protection Agency (the EPA or the Agency) continues to seek public comment on its pending approval of a request for a Small-scale Road Pilot Project on Private Land in Florida submitted by Mosaic Fertilizer, LLC in March 2022, and updated by the Revised Request for Approval of Use of Phosphogypsum in Small-scale Pilot Project, submitted in August 2023. The Agency's review found that Mosaic's request is complete per the requirements of EPA's National Emissions Standards for Hazardous Air Pollutants under the Clean Air Act, and that the potential radiological risks from conducting the pilot project meet the regulatory requirement that the project is at least as protective of public health as maintaining the phosphogypsum in a stack. On October 1, 2024, the EPA issued a pending approval of the request subject to certain conditions, and also opened a 30-day public comment period. With this notice, the Agency is soliciting public comments for an additional 15 days.

DATES: Comments may be submitted on or before November 23, 2024.

ADDRESSES: You may send comments, identified by Docket ID No. EPA-HQ-OAR-2024-0446 by any of the following methods:

• Federal eRulemaking Portal: https://www.regulations.gov (our preferred method). Follow the online instructions for submitting comments.

• Email: a-and-r-Docket@epa.gov. Include Docket ID No. EPA-HQ-OAR-2024-0446 in the subject line of the message.

• U.S. Postal Service Mail: U.S. Environmental Protection Agency, EPA Docket Center, Air and Radiation Docket, Mail Code 28221T, 1200 Pennsylvania Avenue NW, Washington, DC 20460.

• Hand Delivery/Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. EPA-HQ-OAR-2024-0446. Comments received may be posted without change to https://www.regulations.gov/, including any personal information provided. For detailed instructions on sending comments, see the SUPPLEMENTARY INFORMATION section of this document. Copies of Mosaic's request, supporting materials, and the EPA's analysis are available on the EPA's phosphogypsum website at https://www.epa.gov/radiation/phosphogypsum#aaup.

FOR FURTHER INFORMATION CONTACT: Jonathan Walsh, Radiation Protection Division, Office of Radiation and Indoor Air, Mail Code 6608T, Environmental Protection Agency, 1200 Pennsylvania Avenue NW, Washington, DC 20460; 202-343-9238; Walsh.Jonathan@epa.gov.

SUPPLEMENTARY INFORMATION:

I. Public Participation

Submit your comments, identified by Docket ID No. EPA-HQ-OAR-2024-0446, at https://www.regulations.gov (our preferred method), or the other methods identified in the ADDRESSES section.

Once submitted, comments cannot be edited or removed from the docket. The EPA may publish any comment received to its public docket. Do not submit electronically any information you consider to be Confidential Business Information (CBI) or other information whose disclosure is restricted by statute. The written comment is considered the official comment and should include discussion of all points you wish to make. The EPA generally will not consider comments or their contents located outside of the primary submission (i.e., on the web, cloud, or other file sharing system). For additional submission methods, the full EPA public comment policy, information about CBI or multimedia submissions, and general guidance on making effective comments, please visit https://www.epa.gov/dockets/commenting-epa-dockets.

Tips for Preparing Your Comments. When submitting comments, remember to:

• Identify the notice by docket number, subject heading, Federal Register date, and page number.

• Provide a brief description of yourself and your role or organization.

• Explain why you agree or disagree; suggest alternatives and substitute language for your requested changes.

• Describe any assumptions and provide any technical information and/or data that you used.

• Illustrate your concerns with specific examples and suggest alternatives.

• Explain your views as clearly as possible, avoiding the use of profanity or personal threats.

• Make sure to submit your comments by the comment period deadline identified.

II. Background

Phosphogypsum is the waste byproduct of wet acid phosphorous production. It contains elevated concentrations of the radionuclide radium, which decays to form radon gas. The EPA's regulations under the Clean Air Act at 40 CFR part 61, subpart R (hereafter “Subpart R”) require that phosphogypsum must be disposed of in engineered piles, called stacks, to limit public exposure to its radioactive components. Subpart R allows the removal of phosphogypsum from stacks for outdoor agricultural purposes and indoor research and development, subject to conditions and restrictions. Any other use of phosphogypsum requires prior approval from the EPA. The EPA may approve a request for a specific use of phosphogypsum if it determines that the proposed use is at least as protective of public health as placement of phosphogypsum in a stack. The processes for requesting such an approval are described in 40 CFR 61.206.

Mosaic Fertilizer, LLC submitted a request for a Small-scale Road Pilot Project on Private Land in Florida in March 2022, and submitted a Revised Request for Approval of Use of Phosphogypsum in Small-scale Pilot Project in August 2023. Mosaic has proposed to construct a small-scale pilot project at its New Wales facility in Polk County, Florida. Mosaic's plan is to construct four sections of test road having varying mixtures of phosphogypsum (PG) in the road base “to demonstrate the range of PG road construction designs that meet the Florida Standard Specifications for Road and Bridge construction.” The pilot project will be constructed in the place of an existing facility road near the phosphogypsum stack, and the study will be conducted in conjunction with researchers from the University of Florida.

The EPA has performed a complete review of Mosaic's request, documented in Review of the Small-scale Road Pilot Project on Private Land in Florida Submitted by Mosaic Fertilizer, LLC. The Agency's review found that Mosaic's request is complete per the requirements of 40 CFR 61.206(b). Further, the review found that Mosaic's risk assessment is technically acceptable, and that the potential radiological risks from the proposed project meet the regulatory requirements of 40 CFR 61.206(c); that is, the project is at least as protective of public health as maintaining the phosphogypsum in a stack. Therefore, the Agency has issued a pending approval of the small-scale pilot project per 40 CFR 61.206. The pending approval and all supporting documentation are available via the regulations.gov website (www.regulations.gov; Docket ID: EPA-HQ-OAR-2024-0446). This approval initially was pending a 30-day public comment period; with today's notice, the Agency is extending the comment period by an additional 15 days. Approval by the Agency is specific to the pilot project as described in the Mosaic request and indicates only that this project meets the approval requirements of Subpart R.

III. Request for Comments

The Agency is continuing to solicit public comment on its pending approval until November 23, 2024. Upon receipt of public comments, the EPA will review them for relevance to the pending design and determine if they contain information that would lead to a concern for human health or environmental impacts not previously considered. Comments must be specific to the small-scale pilot project as it is described in Mosaic's request and the EPA's pending approval. Should the EPA receive significant adverse comments on aspects of this specific pilot project, the Agency will give the applicant the opportunity to amend the analysis or request. If the comments can be successfully addressed, the EPA will publish a response to comments and notify the public. The Agency's decision to approve or deny a request for other use under 40 CFR 61.206 is not a rulemaking. The EPA's complete process of soliciting and addressing comments is described in Section 2.4 of Applying to EPA for Approval of Other Uses of Phosphogypsum: Preparing and Submitting a Complete Petition Under 40 CFR 61.206, A Workbook.

Electronic copies of the application, the EPA's review, and relevant background materials are available in the public docket ¹ and on the EPA phosphogypsum website.² Physical copies of the Mosaic request and the Agency's technical evaluation have been placed for public review in the Mulberry Public Library, 905 NE 5th Street, Mulberry, FL 33860.

¹ Docket ID No. EPA-HQ-OAR-2024-0446.

² https://www.epa.gov/radiation/phosphogypsum#aaup.

Jonathan D. Edwards,
Director, Office of Radiation and Indoor Air.

[FR Doc. 2024-25746 Filed 11-7-24; 8:45 am]

P